DEPARTMENT OF DEFENSE

Office of the Secretary

[Transmittal No. 25-111]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-111, Policy Justification, and Sensitivity of Technology.

Dated: February 5, 2026.
Stephanie J. Bost,
Alternate OSD Federal Register Liaison Officer, Department of Defense.

BILLING CODE 6001-FR-P

BILLING CODE 6001-FR-C

Transmittal No. 25-111

Notice of Proposed Issuance of Letter of Offer Pursuant to Section 36(b)(1) of the Arms Export Control Act, as amended

(i) Prospective Purchaser: Republic of Korea

(ii) Total Estimated Value:

Major Defense Equipment * | $106.8 million
Other | $ 5.0 million
TOTAL | $111.8 million

(iii) Description and Quantity or Quantities of Articles or Services under Consideration for Purchase: Foreign Military Sales (FMS) case KS-D-YAT was below the congressional notification threshold at $18.8 million ($15.4 million in major defense equipment (MDE)) and included three hundred eighty-seven (387) GBU-39/B Small Diameter Bombs (SDB-I). The Republic of Korea has requested the case be amended to include an additional six hundred twenty-four (624) GBU-39/B SDB-Is. This amendment will cause the case to exceed the notification threshold, and thus notification of the entire program is required. The above notification requirements are combined as follows:

Major Defense Equipment (MDE):

One thousand eleven (1,011) GBU-39/B Small Diameter Bombs (SDB-I)

Non-Major Defense Equipment:

The following non-MDE items will be included: aircraft components, spares, and accessories; explosive charges, devices, propellants, and components; spare parts, consumables and accessories, and repair and return support; United States (U.S.) Government and contractor engineering, technical, and logistics support services; and other related elements of logistics and program support.

(iv) Military Department: Air Force (KS-D-YAT)

(v) Prior Related Cases, if any: KS-D-YBB

(vi) Sales Commission, Fee, etc., Paid, Offered, or Agreed to be Paid: None known at this time

(vii) Sensitivity of Technology Contained in the Defense Article or Defense Services Proposed to be Sold: See Attached Annex

(viii) Date Report Delivered to Congress: December 5, 2025

* as defined in Section 47(6) of the Arms Export Control Act.

POLICY JUSTIFICATION

Republic of Korea—GBU-39/B Small Diameter Bombs-Increment I (SDB-I)

The Republic of Korea has requested to buy an additional six hundred twenty-four (624) GBU-39/B Small Diameter Bombs (SDB-I) that will be added to a previously implemented case whose value was under the congressional notification threshold. The original Foreign Military Sales (FMS) case, valued at $18.8 million ($15.4 million in major defense equipment (MDE)), included three hundred eighty-seven (387) GBU-39/B SDB-Is; aircraft components, spares, and accessories; explosive charges, devices, propellants, and components; spare parts, consumables and accessories, and repair and return support; U.S. Government and contractor engineering, technical, and logistics support services; and other related elements of logistics and program support. The estimated total cost is $111.8 million.

This proposed sale will support the foreign policy and national security objectives of the U.S. by improving the security of a major ally that is an important force for political stability and economic progress in the Indo-Pacific region.

This proposed sale will improve the Republic of Korea's capability to meet current and future threats by increasing its critical air defense capability to deter aggression in the region and to ensure interoperability with U.S. forces. The Republic of Korea already has GBU-39/B SDB-Is in its inventory and will have no difficulty absorbing these articles and services into its armed forces.

The proposed sale of this equipment and support will not alter the basic military balance in the region.

The principal contractor will be The Boeing Corporation, located in Arlington, VA. At this time, the U.S. Government is not aware of any offset agreement proposed in connection with this potential sale. Any offset agreement will be defined in negotiations between the purchaser and the contractor.

Implementation of this proposed sale will not require the assignment of any additional U.S. Government or contractor representatives to the Republic of Korea.

There will be no adverse impact on U.S. defense readiness as a result of this proposed sale.

Transmittal No. 25-111

Notice of Proposed Issuance of Letter of Offer Pursuant to Section 36(b)(1) of the Arms Export Control Act

Annex

Item No. vii

(vii) Sensitivity of Technology:

1. The GBU-39/B Small Diameter Bomb Increment I (SDB-I) All Up Round (AUR) is a 250-pound GPS-aided munition with precise positioning services provided by Selective Availability Anti-Spoofing Module or M-Code, and it is a small, autonomous, day or night, adverse weather, conventional, air-to-ground precision glide weapon able to strike fixed and stationary re-locatable non-hardened targets from standoff ranges. The SDB system employs a smart carriage capable of carrying four 250-lb class guided air-to-surface munitions. It can destroy high-priority fixed and stationary targets from Air Force fighters and bombers in internal bays or on external hard-points. SDB increases aircraft loadout, decreases the logistical footprint, decreases collateral damage, and improves aircraft sortie generation times.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the Republic of Korea can provide substantially the same degree of protection for the sensitive technology being released as the U.S. Government. This proposed sale is necessary in furtherance of the U.S. foreign policy and national security objectives outlined in the Policy Justification.

5. All defense articles and services listed in this transmittal have been authorized for release and export to the Republic of Korea.

[FR Doc. 2026-02525 Filed 2-6-26; 8:45 am]

BILLING CODE 6001-FR-P